DEPARTMENT OF ENERGY

Federal Energy Regulatory Commission

Combined Notice of Filings #1

Take notice that the Commission received the following electric rate filings:

Docket Numbers: ER10-1944-002; ER10-2051-003; ER10-2042-015; ER10-2043-003; ER10-2029-005; ER10-2041-003; ER10-2040-003; ER10-2039-003; ER10-1938-010; ER10-2036-004; ER13-1670-004; ER10-1934-009; ER10-1893-009; ER10-1889-002; ER10-1895-002; ER10-1870-002; ER10-1862-009; ER10-1858-002; ER13-1401-001; ER10-2044-003.

Applicants: Bethpage Energy Center 3, LLC, Calpine Bethlehem, LLC, Calpine Energy Services, L.P., Calpine Mid-Atlantic Generation, LLC, Calpine Mid-Atlantic Marketing, LLC, Calpine Mid Merit, LLC, Calpine New Jersey Generation, LLC, Calpine Newark, LLC, Calpine Power America—CA, LLC, Calpine Vineland Solar, LLC, CES Marketing V, LLC, CES Marketing IX, LLC, CES Marketing X, LLC, CPN Bethpage 3rd Turbine, Inc., KIAC Partners, Nissequogue Cogen Partners, Power Contract Financing, L.L.C., TBG Cogen Partners, Westbrook Energy Center, LLC, Zion Energy LLC.

Description: Updated Market Power Analysis for the Northeast Region of the Calpine Corporation subsidiaries.

Filed Date: 6/30/14.

Accession Number: 20140630-5391.

Comments Due: 5 p.m. ET 8/29/14.

Docket Numbers: ER10-2265-002; ER10-2783-009; ER10-2784-009; ER14-1865-003; ER14-1818-002; ER10-2337-004; ER10-2795-009; ER10-2798-009; ER10-2339-004; ER10-2338-004; ER10-2340-004; ER10-2799-009; ER10-2801-009; ER11-2062-011; ER10-2346-003; ER10-2812-008; ER10-1291-012; ER10-2843-007; ER11-2508-010; ER11-2863-006; ER11-4307-011; ER10-2846-009; ER12-261-010; ER10-3223-003; ER10-2875-009; ER10-2353-003; ER10-2878-009; ER10-2355-004; ER10-2879-009; ER10-2880-009; ER10-2888-011; ER13-1745-004; ER13-1788-004; ER13-1789-004; ER10-2896-009; ER10-2913-009; ER10-2914-011; ER13-1799-004; ER13-1801-004; ER13-1802-004; ER10-2916-009; ER10-2915-009; ER13-1965-005; ER10-2969-009; ER11-4351-004; ER11-4308-011; ER11-2805-010; ER10-2947-009.

Applicants: NRG Power Marketing LLC, Arthur Kill Power LLC, Astoria Gas Turbine Power LLC, BETM Solutions LLC, Boston Energy Trading and Marketing LLC, CL Power Sales Eight, L.L.C., Conemaugh Power LLC, Connecticut Jet Power LLC, CP Power Sales Seventeen, L.L.C., CP Power Sales Nineteen, L.L.C., CP Power Sales Twenty, L.L.C., Devon Power LLC, Dunkirk Power LLC, Energy Plus Holdings LLC, Forward WindPower LLc, GenConn Devon LLC, GenConn Energy LLC, GenConn Middletown LLC, GenOn Energy Management, LLC, GenOn Mid-Atlantic, LLC, Green Mountain Energy Company, Independence Energy Group LLC, Indian River Power LLC, Keystone Power LLC, Lookout Windpower, LLC, Middletown Power LLC, Midwest Generation LLC, Montville Power LLC, NEO Freehold-Gen LLC, Norwalk Power LLC, NRG Bowline LLC, NRG Chalk Point LLC, NRG Energy Center Dover LLC, NRG New Jersey Energy Sales LLC, NRG Potomac River LLC, NRG Power Midwest LP, NRG Wholesale Generation LP, Oswego Harbor Power LLC, Pinnacle Wind, LLC, RRI Energy Services, LLC, NRG Canal LLC, Vienna Power LLC, NRG REMA LLC, NRG Rockford LLC, NRG Rockford II LLC, NRG Energy Center Paxton LLC, Reliant Energy Northeast LLC, Huntley Power LLC.

Description: Updated Market Power Analysis of the NRG Northeast MBR Sellers.

Filed Date: 6/30/14.

Accession Number: 20140630-5390.

Comments Due: 5 p.m. ET 8/29/14.

Docket Numbers: ER13-338-004.

Applicants: Shiloh IV Lessee, LLC.

Description: Notice of Non-Material Change in Status of Shiloh IV Lessee, LLC.

Filed Date: 7/7/14.

Accession Number: 20140707-5095.

Comments Due: 5 p.m. ET 7/28/14.

Docket Numbers: ER13-2290-002.

Applicants: AEP Texas Central Company.

Description: TCC-TNC-Texas New Mexico Power Company ERCOT TSA Compliance to be effective 8/8/2013.

Filed Date: 7/7/14.

Accession Number: 20140707-5070.

Comments Due: 5 p.m. ET 7/28/14.

Docket Numbers: ER14-1964-001.

Applicants: BIF II Safe Harbor Holdings, LLC.

Description: Volume No. 1, 1.0.1 to be effective 5/15/2014.

Filed Date: 7/3/14.

Accession Number: 20140703-5127.

Comments Due: 5 p.m. ET 7/24/14.

Docket Numbers: ER14-2362-000.

Applicants: Dominion Energy Kewaunee, Inc.

Description: Cancellation of DEKI Tariff and Tariff ID to be effective 7/4/2014.

Filed Date: 7/3/14.

Accession Number: 20140703-5096.

Comments Due: 5 p.m. ET 7/24/14.

Docket Numbers: ER14-2364-000.

Applicants: EAM Nelson Holding, LLC.

Description: EAM Nelson Holding, LLC, Reactive Power Rate Schedule to be effective 9/1/2014.

Filed Date: 7/3/14.

Accession Number: 20140703-5139.

Comments Due: 5 p.m. ET 7/24/14.

Docket Numbers: ER14-2365-000.

Applicants: Entergy Power, LLC.

Description: Entergy Power, LLC, Reactive Power Revenue Requirement to be effective 9/1/2014.

Filed Date: 7/3/14.

Accession Number: 20140703-5140.

Comments Due: 5 p.m. ET 7/24/14.

Docket Numbers: ER14-2366-000.

Applicants: PJM Interconnection, L.L.C.

Description: Service Agreement No. 3630; Queue No. Y3-036 to be effective 6/6/2014.

Filed Date: 7/7/14.

Accession Number: 20140707-5052.

Comments Due: 5 p.m. ET 7/28/14.

Docket Numbers: ER14-2367-000.

Applicants: PJM Interconnection, L.L.C.

Description: Revisions to MISO-PJM JOA Att 5 re Emergency Energy Provisions to be effective 7/8/2014.

Filed Date: 7/7/14.

Accession Number: 20140707-5077.

Comments Due: 5 p.m. ET 7/28/14.

Docket Numbers: ER14-2368-000.

Applicants: Midcontinent Independent System Operator, Inc.

Description: Midcontinent Independent System Operator, Inc. submits tariff filing per 35.13(a)(2)(iii: 2014-07-07_MISO-PJM JOA Attachment 5 Amendment Jt Filing to be effective 7/8/2014.

Filed Date: 7/7/14.

Accession Number: 20140707-5122.

Comments Due: 5 p.m. ET 7/28/14.

Docket Numbers: ER14-2369-000.

Applicants: Wabash Valley Power Association, Inc.

Description: Wabash Valley Power Association, Inc. submits tariff filing per 35.13(a)(2)(iii: Amendments to Rate Schedules—Corn Belt to be effective 9/7/2014.

Filed Date: 7/7/14.

Accession Number: 20140707-5123.

Comments Due: 5 p.m. ET 7/28/14.

Docket Numbers: ER14-2370-000.

Applicants: Wabash Valley Power Association, Inc.

Description: Wabash Valley Power Association, Inc. submits tariff filing per 35.13(a)(2)(iii: Amendments to Rate Schedules—White County REMC to be effective 9/7/2014.

Filed Date: 7/7/14.

Accession Number: 20140707-5124.

Comments Due: 5 p.m. ET 7/28/14.

Docket Numbers: ER14-2371-000.

Applicants: Cottonwood Energy Company LP.

Description: Cottonwood Energy Company LP submits tariff filing per 35.15: Notice of Cancellation to be effective 8/30/2010.

Filed Date: 7/7/14.

Accession Number: 20140707-5138.

Comments Due: 5 p.m. ET 7/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2014.
Nathaniel J. Davis, Sr.,
Deputy Secretary.

[FR Doc. 2014-16412 Filed 7-11-14; 8:45 am]

BILLING CODE 6717-01-P